DEPARTMENT OF ENERGY

Federal Energy Regulatory Commission

[Docket No. AD22-9-000]

New England Winter Gas-Electric Forum; Notice Inviting Post-Forum Comments

On June 20, 2023, the Federal Energy Regulation Commission (Commission) convened a Commissioner-led forum to discuss solutions to the electric and gas challenges facing the New England region.

All interested persons are invited to file post-forum comments on the topics in the forum agenda and discussed during the forum. We also invite responses to the questions below. Commenters may reference material previously filed in this docket but are encouraged to avoid repetition or replication of previously filed material. Commenters need not answer all of the questions but are encouraged to organize responses using the numbering and order in the below questions. Comments should be submitted on or before 45 days from issuance of this notice.

Comments on Supplemental Notice for June 20, 2023, Second New England Winter Gas-Electric Forum

In accordance with the deadline above, we seek responses to the questions listed in the Supplemental Notice issued in this proceeding on May 26, 2023, which are restated below.

Panel 1: Should Everett Be Retained and, If So, How?

Please comment on whether Everett is needed for the reliable operation of the electric and/or natural gas systems in New England during the upcoming winters and beyond. As part of these comments, please address the following:

a. Is there sufficient information available to make this assessment? If not, what additional information would be most useful to determine whether there is a need to retain Everett (e.g., information about the uses of, beneficiaries of, and costs to maintain the Everett facility)?

b. Is LNG from other sources (e.g., Repsol and/or Excelerate) a full substitute for the LNG from Everett? If not, under what circumstances is it not a full substitute and are there conditions under which electric system and/or gas system operators would be unable to meet electric and/or gas demand or maintain reliable service if Everett retires?

c. To the extent there is a need for Everett's continued operation, does that need change over a longer time horizon? If so, what circumstances drive its need?

d. What are potential next steps on these issues in both the short-term (winters 2023/2024 and 2024/2025) and beyond (beginning winter 2025/2026)?

Panel 2: Reactions to the EPRI Study

Please comment on the assumptions and conclusions of the EPRI study and what next steps should be taken given the study's results.¹ As part of these comments, please address the following:

¹ We note that the 45-day comment period provided herein should allow commenters to also respond to the 2032 results of the EPRI Study that were not available at the time of the June forum, based on ISO-NE's announced schedule for the release of those results. Several panelists at the June forum stated that the 2032 results will inform answers to the questions in this notice. We therefore encourage commenters to provide feedback on the “Review of Step 3 (Probabilistic Energy Assessments) results for study year 2032” and their importance for considering next steps. See ISO New England, Reliability Committee Preliminary Meeting Topics (Two-Month Look Ahead) July/August 2023, (July 5, 2023) at 2, https://www.iso-ne.com/static-assets/documents/2023/07/rc_2_month_look_ahead_forecast_july_august_2023.docx.

a. Do these findings provide the information needed to make decisions about winter energy risks in New England? If not, what additional information is needed?

b. Are additional or continuous studies needed to assess New England electric and gas winter issues? If so, what analyses are needed and how often should this be conducted?

Panel 3: Path to Sustainable Solutions—Infrastructure

Please comment on what infrastructure is necessary to support reliable electric and gas system operations in New England. As part of these comments, please address the following:

a. Are those infrastructure projects currently being pursued? If not, why not?

b. What obstacles need to be addressed to allow new infrastructure to be placed timely into operation, and how are those obstacles currently being addressed?

c. What steps, if any, should the Commission, ISO-NE, the New England states, and/or others take to address obstacles under their jurisdiction?

Panel 4: Path to Sustainable Solutions—Market Design

Please comment on what market reforms are necessary to support reliable electric and gas system operations in New England. As part of these comments, please address the following:

a. What proposals currently under consideration in the stakeholder process and in the ISO-NE work plan would be most helpful to address New England's winter electric and gas system challenges?

i. Please specify which proposals under consideration are a priority for your organization and explain how, if possible, necessary market changes can be expedited.²

² This question has been modified from the May 26 and June 13 Supplemental Notices that asked “[a]re these proposals appropriately prioritized? If not, what should be done and how can necessary market changes be expedited?” See May 26, 2023, Supplemental Notice of Second New England Winter Gas-Electric Forum, 88 FR 36306 at 36308 (June 2, 2023) and June 13, 2023, Supplemental Notice of Second New England Winter Gas-Electric Forum, 88 FR 39837 at 39838 (June 20, 2023).

ii. At a high level, are there any major concerns with the current proposals under discussion that should be addressed?

b. Are there additional reforms that are not currently under consideration in the stakeholder process that are necessary for energy resources to enhance fuel procurement strategies? If so, what other reforms should be considered? How should these market changes should be prioritized?

Closing Roundtable

In the Closing Roundtable, Commissioners and panelists discussed what was learned through the presentations and panels and considered next steps.

a. Please discuss what next steps, if any, you recommend coming out of the forum.

Dated: July 10, 2023.
Debbie-Anne A. Reese,
Deputy Secretary.

[FR Doc. 2023-14995 Filed 7-13-23; 8:45 am]

BILLING CODE 6717-01-P